DEPARTMENT OF THE INTERIOR

Bureau of Land Management

[AZ-910-0777-26-241A]

State of Arizona Resource Advisory Council Meeting

AGENCY: Bureau of Land Management, Interior.

ACTION: Arizona Resource Advisory Council Meeting notice.

SUMMARY: This notice announces a meeting of the Arizona Resource Advisory Council (RAC).

The business meeting will be held on September 17, 2003, at the BLM National Training Center, 9828 North 31st Avenue in Phoenix, Arizona. It will begin at 9:30 a.m. and conclude at 4 p.m. The agenda items to be covered include: review of the July 10, 2002 meeting minutes; BLM State Director's Update on Statewide Issues; RAC Discussion on Standards for Rangeland Health and Guidelines for Grazing Administration (S&Gs) Working Group Recommendations on the Sustaining Working Landscape Initiative; a public comment period (between 10:30 a.m. and 12:30 p.m.) will follow this discussion for the RAC to accept verbal and written comments from the public. The focus of this meeting will be to develop the RAC's recommendations for the Sustaining Working Landscape Initiative, and to gather public comments on those recommendations to forward to BLM in Washington DC. However, if time permits the following agenda items will be presented: BLM's Budget Development Process and E-Planning Pilot Project; RAC Questions on Written Reports from BLM Field Office Managers; Field Office Rangeland Resource Team Proposals; Reports by the Standards and Guidelines, Recreation and Tourism, Public Relations, Land Use Planning, and Wild Horse and Burro Working Groups; Reports from RAC members; and Discussion of future meetings.

FOR FURTHER INFORMATION CONTACT: Deborah Stevens, Bureau of Land Management, Arizona State Office, 222 North Central Avenue, Phoenix, Arizona 85004-2203, (602) 417-9215.

Carl Rountree,
Acting Arizona State Director.

[FR Doc. 03-21267 Filed 8-19-03; 8:45 am]

BILLING CODE 4310-32-M